DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons (SDN) List based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://ofac.treasury.gov).

Notice of OFAC Action(s)

On September 19, 2023, OFAC determined that the property and interests in property subject to U.S. jurisdiction of the following persons are blocked under the relevant sanctions authority listed below.

Individuals

1. A'INI, Husayn (a.k.a. A'INI, Hosein Omid; a.k.a. AYINI, Hosein), Iran; DOB 15 Jan 1976; nationality Iran; Additional Sanctions Information—Subject to Secondary Sanctions; Gender Male; National ID No. 3801669696 (Iran) (individual) [NPWMD] [IFSR] (Linked To: IRAN AIRCRAFT MANUFACTURING INDUSTRIAL COMPANY).

Designated pursuant to section 1(a)(iv) of Executive Order 13382 of June 28, 2005, “Blocking Property of Weapons of Mass Destruction Proliferators and Their Supporters,” 70 FR 38567, 3 CFR, 2005 Comp., p. 170 (“E.O. 13382”), for acting or purporting to act for or on behalf of, directly or indirectly, IRAN AIRCRAFT MANUFACTURING INDUSTRIAL COMPANY, a person whose property and interests in property are blocked pursuant to E.O. 13382.

2. AYKUT, Alaaddin, Istanbul, Turkey; DOB 03 Jan 1965; POB Kilis, Turkey; nationality Turkey; Additional Sanctions Information—Subject to Secondary Sanctions; Gender Male; Identification Number 61516474396 (Turkey) (individual) [NPWMD] [IFSR] (Linked To: IRAN AIRCRAFT MANUFACTURING INDUSTRIAL COMPANY).

Designated pursuant to section 1(a)(iii) of E.O. 13382 for having provided, or attempted to provide, financial, material, technological or other support for, or goods or services in support of, IRAN AIRCRAFT MANUFACTURING INDUSTRIAL COMPANY, a person whose property and interests in property are blocked pursuant to E.O. 13382.

3. DONG, Wenbo, China; DOB 23 May 1992; POB Guangxi, China; nationality China; Additional Sanctions Information—Subject to Secondary Sanctions; Gender Male; Passport E02849013 (China) issued 23 Aug 2012 expires 22 Aug 2022 (individual) [NPWMD] (Linked To: GUILIN ALPHA RUBBER & PLASTICS TECHNOLOGY CO., LTD).

Designated pursuant to section 1(a)(iv) of E.O. 13382 for acting or purporting to act for or on behalf of, directly or indirectly, GUILIN ALPHA RUBBER & PLASTICS TECHNOLOGY CO., LTD, a person whose property and interests in property are blocked pursuant to E.O. 13382.

4. GOGERDCHIAN, Mehdi (a.k.a. GUGERDCHIAN, Mehdi), Iran; DOB 14 Aug 1975; nationality Iran; Additional Sanctions Information—Subject to Secondary Sanctions; Gender Male; National ID No. 1286966558 (Iran) (individual) [NPWMD] [IFSR] (Linked To: IRAN AIRCRAFT MANUFACTURING INDUSTRIAL COMPANY).

Designated pursuant to section 1(a)(iv) of E.O. 13382 for acting or purporting to act for or on behalf of, directly or indirectly, IRAN AIRCRAFT MANUFACTURING INDUSTRIAL COMPANY, a person whose property and interests in property are blocked pursuant to E.O. 13382.

5. NOORI, Hamid Reza (a.k.a. NURI, Hamid Reza), Iran; DOB 04 Feb 1974; POB Esfahan, Iran; nationality Iran; Additional Sanctions Information—Subject to Secondary Sanctions; Gender Male; Passport G10506784 (Iran); alt. Passport G9329064 (Iran); National ID No. 1290992118 (Iran) (individual) [NPWMD] [IFSR] (Linked To: IRAN AIRCRAFT MANUFACTURING INDUSTRIAL COMPANY).

Designated pursuant to section 1(a)(iv) of E.O. 13382 for acting or purporting to act for or on behalf of, directly or indirectly, IRAN AIRCRAFT MANUFACTURING INDUSTRIAL COMPANY, a person whose property and interests in property are blocked pursuant to E.O. 13382.

6. SU, Chunpeng, China; DOB 10 Dec 1980; POB Tai'an, China; nationality China; Additional Sanctions Information—Subject to Secondary Sanctions; Gender Male; Passport G57293067 (China) issued 21 Dec 2011 expires 20 Dec 2021; National ID No. 370602198012102115 (China) (individual) [NPWMD] (Linked To: SHENZHEN JIASIBO TECHNOLOGY CO., LTD.).

Designated pursuant to section 1(a)(iv) of E.O. 13382 for acting or purporting to act for or on behalf of, directly or indirectly, SHENZHEN JIASIBO TECHNOLOGY CO., LTD., a person whose property and interests in property are blocked pursuant to E.O. 13382.

7. TOKDEMIR, Mehmet, Istanbul, Turkey; DOB 11 Nov 1978; POB Dogubayazit, Turkey; nationality Turkey; Additional Sanctions Information—Subject to Secondary Sanctions; Gender Male; National ID No. 22054198168 (Turkey) (individual) [NPWMD] [IFSR] (Linked To: IRAN AIRCRAFT MANUFACTURING INDUSTRIAL COMPANY).

Designated pursuant to section 1(a)(iii) of E.O. 13382 for having provided, or attempted to provide, financial, material, technological or other support for, or goods or services in support of, IRAN AIRCRAFT MANUFACTURING INDUSTRIAL COMPANY, a person whose property and interests in property are blocked pursuant to E.O. 13382.

Entities

1. DELTA-AERO TECHNICAL SERVICE CENTER LLC (a.k.a. LIMITED LIABILITY COMPANY TECHNICAL SERVICE CENTER DELTA-AERO; a.k.a. LLC TSTO DELTA-AERO), Vn. Ter. Settlement Moskovsky, Kievskoe Highway 22 km, household 4, building 1, floor 6, room/office 620 A/37, Moscow 108511, Russia; Additional Sanctions Information—Subject to Secondary Sanctions; Organization Established Date 12 Apr 2021; Tax ID No. 7730263823 (Russia); Business Registration Number 1217700171809 (Russia) [NPWMD] [IFSR] (Linked To: IRAN AIRCRAFT MANUFACTURING INDUSTRIAL COMPANY).

Designated pursuant to section 1(a)(iii) of E.O. 13382 for having provided, or attempted to provide, financial, material, technological or other support for, or goods or services in support of, IRAN AIRCRAFT MANUFACTURING INDUSTRIAL COMPANY, a person whose property and interests in property are blocked pursuant to E.O. 13382.

2. JOINT STOCK COMPANY SCIENTIFIC PRODUCTION ENTERPRISE AEROSILA (a.k.a. JSC SPE AEROSILA; a.k.a. NPP AEROSILA, AO), 6, Zhdanov Str, Stupino, Moscow region, 142800, Russia; website www.aerosila.ru; Additional Sanctions Information—Subject to Secondary Sanctions; Organization Established Date 09 Sep 2002; Tax ID No. 5045002261 (Russia); Business Registration Number 1025005917023 (Russia) [NPWMD] [IFSR] (Linked To: IRAN AIRCRAFT MANUFACTURING INDUSTRIAL COMPANY).

Designated pursuant to section 1(a)(iii) of E.O. 13382 for having provided, or attempted to provide, financial, material, technological or other support for, or goods or services in support of, IRAN AIRCRAFT MANUFACTURING INDUSTRIAL COMPANY, a person whose property and interests in property are blocked pursuant to E.O. 13382.

3. JOINT STOCK COMPANY STAR (a.k.a. AO ODK-STAR; a.k.a. JSC UEC STAR), Ul. Kuibysheva D. 140A, Perm 614990, Russia; website www.ao-star.ru; Additional Sanctions Information—Subject to Secondary Sanctions; Organization Established Date 1943; Tax ID No. 5904100329 (Russia); Business Registration Number 1025900895712 (Russia) [NPWMD] [IFSR] (Linked To: IRAN AIRCRAFT MANUFACTURING INDUSTRIAL COMPANY).

Designated pursuant to section 1(a)(iii) of E.O. 13382 for having provided, or attempted to provide, financial, material, technological or other support for, or goods or services in support of, IRAN AIRCRAFT MANUFACTURING INDUSTRIAL COMPANY, a person whose property and interests in property are blocked pursuant to E.O. 13382.

4. SHENZHEN JIASIBO TECHNOLOGY CO., LTD. (a.k.a. SHENZHEN JIA SIBO SCIENCE AND TECHNOLOGY CO., LTD.), No. 57, Busha Road, Buji, Longgang, Shenzhen, Guangdong, China; Additional Sanctions Information—Subject to Secondary Sanctions; Organization Established Date 08 May 2012; Registration Number 440307106211599 (China); Unified Social Credit Code (USCC) 91440300595653122J (China) [NPWMD] [IFSR] (Linked To: IRAN AIRCRAFT MANUFACTURING INDUSTRIAL COMPANY).

Designated pursuant to section 1(a)(iii) of E.O. 13382 for having provided, or attempted to provide, financial, material, technological or other support for, or goods or services in support of, IRAN AIRCRAFT MANUFACTURING INDUSTRIAL COMPANY, a person whose property and interests in property are blocked pursuant to E.O. 13382.

On September 19, 2023, OFAC published the following revised information for the entry on the SDN List for the following person blocked under the relevant sanctions authority listed below.

Dated: September 19, 2023.
Bradley T. Smith,
Director, Office of Foreign Assets Control, U.S. Department of the Treasury.

[FR Doc. 2023-20573 Filed 9-21-23; 8:45 am]

BILLING CODE 4810-AL-P